DEPARTMENT OF TRANSPORTATION

Federal Aviation Administration

Notice of Interim Operating Authority Granted to Commercial Air Tour Operators Over National Parks and Tribal Lands Within or Abutting National Parks

AGENCY: Federal Aviation Administration, DOT.

ACTION: Notice.

SUMMARY: On October 25, 2002, the Federal Aviation Administration (FAA) published the final rule for Title 14, Code of Federal Regulations (14 CFR) part 136, National Parks Air Tour Management (67 FR 65662). The rule became effective on January 23, 2003. On January 27, 2005, the FAA published a notice of opportunity for commercial air tour operators granted interim operating authority (IOA) under the National Parks Air Tour Management Act of 2000 (the Act) to review and self-correct annual authorizations (70 FR 3972). based on the responses to that notice, the FAA made some corrections to interim operating authority. The Act also requires the interim operating authority granted under the Act to be published in the Federal Register for notice and the opportunity for comment. This notice fulfills that statutory requirement.

FOR FURTHER INFORMATION CONTACT: Gene Kirkendall, Flight Standards Service, Federal Aviation Administration, 800 Independence Ave., SW., Washington, DC 20591; telephone (202) 385-4510; e-mail Gene.Kirkendall@FAA.GOV.

SUPPLEMENTARY INFORMATION: On October 25, 2002, the FAA published a final rule in 14 CFR part 136, National Parks Air Tour Management (67 FR 65662), pursuant to the mandates specified in the Act, enacted on April 5, 2000. This final rule (part 136) completed the definition of “commercial air tour operation” by establishing the altitude (5,000 feet above ground level) below which an operator flying over a national park for the purpose of sightseeing would be classified as a commercial air tour operator. The rule also codified provisions of the Act. In accordance with 14 CFR 136.7(b), before commencing commercial air tour operations over a unit of the national park system or tribal lands within or abutting a national park, a commercial air tour operator is required to apply to the Administrator for authority to conduct the operations over the park or tribal lands. Title 14 CFR 136.11(a) states that: “Upon application for operating authority, the Administrator shall grant interim operating authority under this section to a commercial air tour operator for commercial air tour operations over a national park or tribal land for which the operator is an existing commercial air tour operator.” Consistent with the Act, 14 CFR 136.11(b)(3) also states that IOA granted under that section would be published in the Federal Register to provide notice and opportunity for comment.

Prior to issuing this notice, the FAA became aware that there may have been some errors in the number of commercial air tours initially reported and received. There are several reasons why these errors could have occurred, such as (1) Operators were not required to keep records of the number of commercial air tours conducted over national parks prior to the adoption of the Act; (2) there was a 2½ year time lapse between the passage of the Act and the effective date of the part 136 rule; and (3) there appeared to have been confusion over how to initially report information, especially for operators flying over more than one park. The FAA understood that operators should have requested and received IOA that reflects the actual number of commercial air tours that were conducted during the relevant time period set forth in the statute and the rule and that every effort should be made to standardize the counting of flights requiring IOA.

Consequently, the FAA provided an opportunity for air tour operators to review and correct, if necessary, their annual authorizations. Specifically, on January 27, 2005, the FAA published “Notice of Opportunity To Self-Correct Annual Authorizations for Commercial Air Tour Operators Over National Parks and Tribal Lands Within or Abutting National Parks” (70 FR 3972). This notice informed all operators of the self-correcting process and the rules to follow in counting air tours over parks. Individual notices were also sent by first class mail to all operators who initially reported their number of annual commercial air tour operations. The deadline for completing this review and self-correction was February 21, 2005.

In response to this self-correction process, the FAA received 19 responses from commercial air tour operators. Six operators reported no change in their original reported numbers; three included national parks and/or tribal lands that were unintentionally not listed; three decreased their total annual numbers due to re-examination of their flight paths that were originally thought to penetrate a national park or tribal lands; and seven reported errors made by them or in the data entry process. Based on these responses, the FAA has issued corrected IOA.

The FAA has not confirmed the numbers reported by operators. Operators were notified that if comments are received in response to this current notice that provide substantive information that an operator does not qualify under the law as an existing operator or has erroneously reported the number of flights flown over a park or tribal lands within or abutting the park unit, the FAA may investigate and take corrective action, if necessary, to bring the operator into compliance with the law. IOA may be further amended, if necessary.

In this notice, the FAA is publishing the names of the existing operators who have applied for and received IOA, the national parks and/or tribal lands over which they fly, and the number of operations authorized for each park and/or tribal land. This information is provided so that the public has notice and an opportunity to comment, as required by the Act and 14 CFR part 136. The FAA and the National Park Service (NPS) also will consider this information in the development of Air Tour Management Plans (ATMP) for the parks, which will replace IOA.

The Act and 14 CFR part 136 limit the impacts of commercial air tour operations conducted under IOA by existing operators in several ways. IOA provides annual authorization only for the greater of: (1) The number of flights used by the operator to provide the commercial air tour operations within the 12-month period prior to the date of the Act's enactment; or (2) the average number of flights per 12-month period used by the operator to provide such operations within the 36-month period prior to the Act's enactment, and, for seasonal operations, the number of flights so used during the season or seasons covered by that 12-month period, 49 U.S.C. 40128(c)(2)(A); 14 CFR 136.11(b)(1). Any increase in the authorized number of operations under IOA must be agreed to by the FAA and the NPS, 49 U.S.C. 40128(c)(2)(B); 14 CFR 136.11(b)(2). The Act and part 136 also provide that IOA: (1) May be revoked by the Administrator of the FAA for cause; (2) shall terminate 180 days after the date on which an ATMP is established for the park or tribal lands; (3) shall promote protection of national park resources, visitor experiences, and tribal lands; (4) shall promote safe commercial air tour operations; (5) shall promote the adoption of quiet technology, as appropriate; and (6) shall allow for modifications of the IOA based on experience if the modification improves protection of national park resources and values and of tribal lands, 49 U.S.C. 40128(c)(2)(D)-(I); 14 CFR 136.11(b)(4)-(9).

The Act provides for IOA to allow commercial air tours to continue operating over national parks and tribal lands within or abutting a unit of the national park system pending the establishment of ATMPs. The Act requires that the FAA grant IOA to existing commercial air tour operators “[u]pon application for operating authority,” 49 U.S.C. 40128(c)(1), thus allowing these operators to continue to operate without a break in service.¹ The FAA interprets the provisions in the Act requiring that IOA promote protection of national park resources, visitor experiences, and tribal lands; safe commercial air tour operations; and the adoption of quiet technology, as appropriate, to be continuing requirements of IOA rather than being tied to the initial granting of IOA. See 49 U.S.C. 40128(c)(2)(F)-(H).

¹ The requirement in the Act that the FAA grant IOA “upon application for operating authority” also makes impossible compliance with the National Environmental Policy Act. See, e.g., City of New York v. Mineta, 262 F.3d 169, 178 (2nd Cir. 2001) (concluding that the provisions under the Wendell H. Ford Aviation Investment and Reform Act for the 21st Century for the U.S. Department of Transportation to decide within 60 days whether to award slot exemptions at New York's LaGuardia and John F. Kennedy International Airports triggered the exception to NEPA compliance “when a statute imposes short, mandatory deadlines on an agency, thereby rendering compliance with NEPA's [environmental impact statement] requirement impossible.”)

In consultation with the NPS, and Native American tribes as appropriate, the FAA will monitor impacts of authorized commercial air tour operations on park resources, visitor experiences, and tribal lands within or abutting a unit of the national park system. Consistent with the statutory term “promote,” as used in 49 U.S.C. 40128(c)(2)(F)-(H), the FAA will support appropriate voluntary measures to address specific concerns raised by the NPS, or in the case of tribal lands, Native American tribes, regarding impacts from commercial air tour operations conducted under IOA. As noted above, the Act also allows for modification of IOA based on experience if the modification improves protection of national park resources and values and of tribal lands, 49 U.S.C. 40128(c)(2)(I).

Regarding the promotion of safe commercial air tour operations, the FAA will continue to address safety issues in parks covered by IOA in a manner consistent with existing regulations.

Section 805 of the Act directs the National Parks Overflights Advisory Group (NPOAG) to provide advice, information, and recommendations to the FAA and the NPS on “commonly accepted quiet aircraft technology for use in commercial air tour operations over a national park or tribal lands, which will receive preferential treatment in a given [ATMP]” (Pub. L. 106-181, title VIII, section 805(c)(2)). Section 804 of the Act requires the FAA to designate reasonably achievable requirements necessary for aircraft to be considered as employing quiet aircraft technology for purposes relating to commercial air tour operations at the Grand Canyon. Pursuant to section 804 of the Act, the FAA issued a final rule designating quiet aircraft technology for commercial air tour aircraft in Grand Canyon National Park on March 29, 2005 (70 FR 16084). Although the Grand Canyon rule does not address the NPOAG's responsibility under section 805 of the Act, the NPOAG may consider the Grand Canyon rule in making recommendations on “commonly accepted quiet aircraft technology” for use in other national parks' ATMPs. Using the advice and recommendations of the NPOAG, the FAA and the NPS will give further consideration to the appropriate promotion of the adoption of quiet technology in IOA.

The FAA solicits comments on all aspects of this notice. Comments about the status of the IOA of a commercial air tour operator or operators, including qualifications to have status as an existing air tour operator over a unit of the national park system or tribal land or the number of flights over a national park or tribal land, should be as specific as possible and include substantive, credible information to support assertions. If comments are received that provide substantive, credible information that an operator does not qualify under the law as an existing operator or has erroneously reported the number of flights flown over a park or related tribal lands, the FAA will investigate and take corrective action, to bring the operator into compliance with the law. IOA may be further amended, if necessary. Comments should be directed to the person listed under FOR FURTHER INFORMATION CONTACT.

Dated: Issued in Washington, DC on June 15, 2005.
John M. Allen,
Acting Director, Flight Standard Services.

Name | DBA | National Park/Abutting Tribal Lands | IOA auth / yr
Above It All, Inc. | Benchmark Flight Center, Hawaii Airventures, Hawaii Island Hoppers, Sporty's Academy Hawaii | Hawaii Volcanoes National Park, HI | 3878
Adams, Bruce M | Southwest Safaris | Arches National Park, UT | 57
|  | Aztec Ruins National Monument, NM | 83
|  | Bandelier National Monument, NM | 126
|  | Big Bend National Park, TX | 5
|  | Black Canyon of The Gunnison National Park, CO | 7
|  | Bryce Canyon National Park, UT | 23
|  | Canyon De Chelly National Monument, AZ | 147
|  | Canyonlands National Park, UT | 57
|  | Capitol Reef National Park, UT | 57
|  | Capulin Volcano National Monument, NM | 13
|  | Carlsbad Caverns National Park, NM | 18
|  | Casa Grande Ruins National Monument, AZ | 6
|  | Cedar Breaks National Monument, UT | 15
|  | Chaco Culture National Historic Park, NM | 147
|  | Colorado National Monument, CO | 57
|  | Coronado National Memorial, AZ | 5
|  | Dinosaur National Monument, CO, UT | 9
|  | El Malpais National Monument, NM | 43
|  | El Morro National Monument, NM | 43
|  | Fort Bowie National Historic Site, AZ | 5
|  | Fort Davis National Historic Site, TX | 5
|  | Fort Union National Monument, NM | 32
|  | Gila Cliff Dwellings National Monument, NM | 26
|  | Glen Canyon National Recreation Area, AZ, UT | 123
|  | Great Sand Dunes National Park & Preserve, CO | 16
|  | Guadalupe Mountains National Park, TX | 18
|  | Hohokam Pima National Monument, AZ | 5
|  | Hovenweep National Monument, UT | 63
|  | Hubbell Trading Post National Historic Site, AZ | 27
|  | Lake Mead and Parashant National Recreation Area and National Monument, AZ, NV | 38
|  | Mesa Verde National Park, CO | 63
|  | Montezuma Castle National Monument, AZ | 19
|  | Natural Bridges National Monument, UT | 29
|  | Navajo National Monument, AZ | 57
|  | Organ Pipe Cactus National Monument, AZ | 5
|  | Pecos National Historic Park, NM | 32
|  | Petrified Forest National Park, AZ | 42
|  | Petroglyph National Monument, NM | 45
|  | Pipe Spring National Monument, AZ | 23
|  | Rainbow Bridge National Monument, UT | 52
|  | Rio Grande Wild and Scenic River, TX | 5
|  | Saguaro National Park, AZ | 5
|  | Salinas Pueblo Missions National Monument, NM | 17
|  | Sunset Crater Volcano National Monument, AZ | 37
|  | Tumacacori National Historic Park, AZ | 5
|  | Tuzigoot National Monument, AZ | 19
|  | Walnut Canyon National Monument, AZ | 37
|  | Wupatki National Monument, AZ | 42
|  | Yucca House National Monument, CO | 63
|  | Zion National Park, UT | 15
Aero-Copters of Arizona, Inc | Bryce Canyon Airlines, Bryce Canyon Helicopters, Helivision, Canyon Airlines | Arches National Park, UT | 10
|  | Bryce Canyon National Park, UT | 1481
|  | Canyonlands National Park, UT | 10
|  | Glen Canyon National Recreaton Area, AZ, UT | 39
|  | Navajo Tribal Lands | 38
|  | Zion National Park, UT | 26
Air Grand Canyon Inc |  | Arches National Park, UT | 8
|  | Bryce Canyon National Park, UT | 15
|  | Canyon De Chelly National Monument, AZ | 9
|  | Canyonlands National Park, UT | 10
|  | Capitol Reef National Park, UT | 2
|  | Cedar Breaks National Monument, UT | 9
|  | Glen Canyon National Recreation Area, AZ, UT | 65
|  | Hovenweep National Monument, UT | 2
|  | Lake Mead and Parashant National Recreational Area and National Monument, AZ, NV | 24
|  | Montezuma Castle National Monument, AZ | 5
|  | Natural Bridges National Monument, UT | 6
|  | Navajo National Monument, AZ | 11
|  | Petrified Forest National Park, AZ | 4
|  | Pipe Spring National Monument, AZ | 3
|  | Rainbow Bridge National Monument, UT | 40
|  | Saguaro National Park, AZ | 13
|  | Sunset Crater Volcano National Monument, AZ | 26
|  | Tuzigoot National Monument, AZ | 38
|  | Walnut Canyon National Monument, AZ | 11
|  | Wupatki National Monument, AZ | 4
|  | Zion National Park, UT | 25
Alika Aviation, Inc | Alexair | Haleakala National Park, HI | 2923
American Aviation, Inc. | American Air Charter, Frog Air | Arches National Park, UT | 137
|  | Bryce Canyon National Park, UT | 138
|  | Canyon De Chelly National Monument, AZ | 14
|  | Canyonlands National Park, UT | 137
|  | Capitol Reef National Park, UT | 136
|  | Cedar Breaks National Monument, UT | 27
|  | Glen Canyon National Recreation Arez, AZ, UT | 462
|  | Golden Spike Naional Historic Site, UT | 11
|  | Grand Teton National Park, WY | 8
|  | Havasupai Tribal Lands | 14
|  | Hopi Tribal Lands | 14
|  | Hovenweep National Monument, UT | 27
|  | Hualapai Tribal Lands | 14
|  | Lake Meade and Parashant National Recreation Area and National Monument, AZ, NV | 3
|  | Natural Bridges National Monument, UT | 28
|  | Navajo National Monument, AZ | 14
|  | Navajo Tribal Lands | 16
|  | Petrified Forest National Park, AZ | 14
|  | Rainbow Bridge National Monument, UT | 138
|  | Sunset Crater Volcano National Museum, AZ | 14
|  | Timpanogos Cave National Monument, UT | 254
|  | Wupatki National Monument, AZ | 14
|  | Yellowstone National Park, ID, MT, WY | 8
|  | Zion National Park, UT | 29
Aris, Inc. | Air Maui Helicopter Tours | Haleakala National Park, HI | 3996
Arrow West Aviation | Redtail Aviation | Arches National Park, UT | 57
|  | Canyonlands National Park, UT | 404
|  | Capitol Reef National Park, UT | 63
|  | Glen Canyon National Recreation Area, AZ, UT | 63
|  | Natural Bridges National Monument, UT | 67
Aviation Ventures, Inc | Vision air, Vision Aviation Management LLC | Lake Mead and Parashant National Recreational Area and National Monument, AZ, NV | 6756
Badger Helicopters Inc |  | Badlands National Park and Pine Ridge Indian Reservation, SD | 4099
Bar Harbor Aviation |  | Acadia National Park, ME | 2000
Big Island Air, Inc. | Hawaii Volcanos National Park, HI |  | 1643
Black Hills Aerial Adventures, Inc |  | Mount Rushmore National Memorial, SD | 363
Burrus FlightSeeing Service |  | Cape Hatteras National Seashore, NC | 1500
Call Air, Inc. | Eco air Tours—Hawaii | Haleakala National Park, HI | 104
|  | Hawaii Volcanos National Park, HI | 102
|  | Kalaupapa National Historical Park, HI | 198
|  | Kaloko-Honokohau National Historical Park, HI | 37
|  | Pu'uhonua OHonaunau National Historical Park, HI | 37
|  | Pu'uhoma O Honaunau National Historical Park, HI | 88
|  | U S S Arizona Memorial, HI | 198
Carisch Helicopters Inc |  | Yellowstone National Park, ID< MT. WY | 20
Classic Helicopter Corporation |  | Mount Ranier National park, WA | 32
Columbia Air Services-BHB, LLC |  | Acadia National Park, ME | 2585
Courtney Aviation, Inc | Courtney Aviation | Death Valley Naional Park, CA | 4
|  | Sequoia & Kings Canyon National Parks, CA | 10
|  | Yosemite National Park, CA | 100
Dairy Air Inc | Outer Banks Airways | Cape Hatteras Naional Seashore, NC | 6500
English, Daniel B | Mt. Lassen Aviation | Lassen Volcanic National Park, CA | 89
Grand Canyon Airlines, Inc | Grand Canyon Airlines | Arches National Park, UT | 4
|  | Canyon De Chelly National Monument, AZ | 5
|  | Canyonlands National Park, UT | 20
|  | Capitol Reef National Park, UT | 6
|  | Glen Canyon National Recreation Area, AZ, UT | 5429
|  | Lake Mead and Parashant National Recreation Area and National Monument, Az, NV | 257
|  | Montezuma Castle National Monument, AZ | 156
|  | Navajo National Monument, AZ | 185
|  | Rainbow Bridge National Monument, UT | 4472
|  | Sunset Crater Volcano National Monument, AZ | 17
|  | Zion National Park, UT | 3
Great Smoky Mountain Helicopter, Inc | Cherokee Helicopters, Delta Helicopters, M Helicopters of TN, Smokey Mountain Helicopters | Great Smoky Mountain National Park, TN, NC/Cherokee Tribal Lands | 120
Gretzke, Robert C | Wings | Big Cypress National Preseve, FL | 1260
|  | Big Cypress Seminole Tribal Lands, FL | 200
|  | Biscayne National Park, FL | 200
|  | Dry Tortugas National Park, FL | 100
|  | Everglades National Park, FL | 674
Hawaii Helicopters, Inc |  | Haleakala National Park, HI | 5682
Hawaii Volcanoes |  | National Park, HI | 141
Heli USA Airways, Inc | Heli USA | Bryce Canyon National Park, UT | 6
|  | Death Valley National Park, CA | 6
|  | Lake Mead and Parashant National Recreational Area and National Monument,AZ, NV | 7463
|  | Zio Naional Park, UT |
Helicopter Consultants of Maui, Inc | Blue Hawaiian Helicopters | Haleakala National Park, HI | 8348
|  | Hawaii Volcano Naional Park, HI | 12413
Helicopter Flight Services, Inc. |  | Statute of Liberty Monument, NY | 3500
Homestead Helicopters, Inc |  | Glacier National Park, MT and Blackfeet Tribal Land | 15
|  | Yellowstone National Park, ID,MT< WY and adjacent tribal land
Island Air, Inc. |  | Mount Ranier National Park, WA | 2
|  | North Cascades National Park,WA | 10
|  | San Juan National Historical Park, WA | 20
Jamestown Flight Center |  | Colonial National Historical Park | 147
K & S Helicopters, Inc | Tropical Helicopters | Hawaii Volcanoes National Park, HI | 1684
King Airelines Inc |  | Bryce Canyon National Park, UT | 12
|  | Cedar Breaks National Monument, UT | 12
|  | Death Valley National Park, CA | 12
|  | Glen Canyon National Recreation Area, AZ, UT | 12
|  | Lake Mead and Parashant National Recreational Area and National Monument, AZ, NV | 4380
|  | Rainbow Bridge National Monument, UT | 12
|  | Zion National Park, UT | 12
Kruger, James W. | Kruger Helicopter Service | Blackfeet Tribal Lands | 750
|  | Glacier National Park, MT | 750
Lake Chelan Air Service Inc | Chelan Airways | Lake Chelan National Recreation Area, WA | 350
|  | North Cascades National Park, WA | 50
Las Vegas Helicopters Inc |  | Bryce Canyon National Park, UT | 12
|  | Death Valley National Park, CA | 12
|  | Lake Mead and Parashant National Recreational Area and National Monument, AZ, NV | 1376
|  | Zion National Park, UT | 12
Laughlin Aviation LLC |  | Lake Mead and Parashant National Recreation Area and National Monument, AZ, NV (Lake Mohave) | 3015
Liberty Helicopters, Inc |  | Statue of Liberty National Monument, NY | 29432
|  | Governors Island National Monument, NY | 29432
Makarion Air | Makarion Air | Arches National Park, UT | 10
|  | Aztec Ruins National Monument, NM | 5
|  | Black Canyon of The Gunnison National Park, CO | 1
|  | Bryce Canyon National Park, Bryce Canyon, UT | 40
|  | Canyon de Chelly National Monument, AZ | 8
|  | Canyounlands National Park, UT | 40
|  | Capitol Reef National Park, UT | 25
|  | Carlsbad Caverns National Park, NM | 1
|  | Casa Grande Ruins National Monument, AZ | 25
|  | Channel Islands National Park, CA | 5
|  | Chiricahua National Monument, AZ | 1
|  | Coronado National Memorial, AZ | 5
|  | Death Valley National Park, CA | 40
|  | Dinosaur National Monument, CO, UT | 2
|  | Glen Canyon National Recreation Area, AZ, UT | 40
|  | Golden Gate National Recreation Area, CA | 40
|  | Great Basin National Park, NV | 25
|  | Great Sand Dunes National Park & Preserve, CO | 3
|  | John Nuir National Historic Site, CA | 40
|  | Joshua Tree National Park, CA | 25
|  | Sequoia & Kings Canyon National Parks, CA | 5
|  | Lassen Volcanic National Park, CA | 5
|  | Lava Beds National Monument, CA | 1
|  | Mesa Verde National Park, CO | 10
|  | Mojave National Preserve, CA | 3
|  | Montezuma Castle National Monument, AZ | 10
|  | Monument Valley Navajo Tribal Park, UT, AZ | 50
|  | Natural Bridges National Monument, UT | 5
|  | Navajo National Monument, AZ | 50
|  | Petrified Forest National Park, AZ | 10
|  | Rainbow Bridge National Monument, UT | 50
|  | Sagauro National Park, AZ | 10
|  | Salinas Pueblo Missions National Monument, NM | 1
|  | San Francisco Maritime National Park, CA | 40
|  | Santa Monica Mountains National Recreation Area, CA | 5
|  | Sequoia & Kings Canyon Nqtional Parks, CA | 5
|  | Sunset Crater Volcano National Monument, AZ | 20
|  | Tonto National Monument, AZ | 2
|  | Walnut Canyon National Monument, AZ | 5
|  | Yellowstone National Park, ID, MT, WY | 3
|  | Yucca House National Monument, CO | 1
|  | Zion National Park, UT | 40
Manuiwa Airways, Inc | Volcano Heli-Tours, Volcano Helicopters | Hawaii Volcanoes National Park, HI | 800
Maui Island Air, Inc | Maui Air, Volcano Air Tours | Haleakala National Park, HI | 130
|  | Hawaii Volcanoes National Park, HI | 611
Maverick Helicopters, Inc |  | Arches National Park, UT | 15
|  | Bryce Canyoun National Park, UT | 15
|  | Canyonlands National Park, UT |
|  | Capitol Reef National Park, UT | 15
|  | Cedar Breaks National Monument, UT | 15
|  | Death Valley National Park, CA | 15
|  | Glen Canyon National Recreation Area, AZ, UT | 15
|  | Grand Teton National Park, WY | 15
|  | Havasu pai Tribal Lands | 15
|  | Lake Mead and Parashant National Recreational Area and National Monument, AZ, NV | 9603
|  | Mojave National Preserve, CA | 15
|  | Monument Valley Navajo Tribal Park, UT, AZ | 15
|  | Natural Bridges National Monument, UT | 15
|  | Rainbow Bridge National Monument, UT | 15
|  | Yosemite National Park, CA | 15
|  | Zion National Park, UT | 15
McClelland, John and Terri | S.F. Helicopter Tours | Devils Postpile National Monument, CA | 2900
|  | Fort Point National Historic Site, CA | 2900
|  | Golden Gate National Recreation Area, CA | 11600
|  | John Muir National Historic Site, CA | 2900
|  | Muir Woods National Monument, CA | 2900
|  | Point Reyes National Seashore, CA | 2900
|  | Redwood National and State Parks, CA | 2900
|  | Rosie the Riveter WWII Home Front National Historical Park, CA | 2900
|  | San Francisco Maritime National Historical Park, CA | 2900
Minuteman Aviation Inc |  | Blackfeet Tribal Lands | 717
|  | Glacier National Park, MT | 717
Mokulele Flight Service, Inc |  | Hawaii Volcanoes National Park, HI | 60
Montana Aircraft, Inc | Montana Aircraft Wings of Montana | Grand Teton National Park, WY | 6
|  | Yellowstone National Park, ID, MT, WY | 60
Montana By Air L L C |  | Blackfeet Tribal Lands | 12
|  | Glacier National Park, MT | 12
Natures Designs, Inc | Vashon Island Air | Mount Rainier National Park, WA | 74
New York Helicopter Charter, Inc |  | Statue of Liberty National Monument, NY | 2655
North East Air and Sea Services LLC |  | Statue of Liberty National Monument, NY | 125
Osprey Aero |  | Glacier National Park, MT | 60
Papillon Airways Inc | Grand Canyon Helicopters Papillon Grand Canyon Helicopters | Arches National Park, UT | 12
|  | Bryce Canyon National Park, UT | 12
|  | Canyonlands National Park, UT | 12
|  | Capitol Reef National Park, UT | 5
|  | Death Valley National Park, CA | 12
|  | Glen Canyon National Recreation Area, AZ, UT | 48
|  | Lake Mead and Parashant National Recreational Area and National Monument, AZ, NV | 11322
|  | Zion National Park, UT | 12
Paragon Air, Inc |  | Haleakala National Park, HI | 219
|  | Hawaii Volcanoes National Park, HI | 1019
|  | Kalaupapa National Historical Park, HI | 730
|  | U S S Arizona Memorial, HI | 18
Pavco, Inc |  | Mount Rainier National Park, WA | 60
|  | Olympic National Park, WA | 27
Platt, Phil | Pelican Airways | Cape Hatteras National Seashore, NC | 170
Rainbow Pacific Helicopters, Ltd. | Magnum Helicopters | Haleakala National Park, HI | 45
|  | Hawaii Volcanoes National Park, HI | 45
|  | Kalaupapa National Historical Park, HI | 45
|  | Kaloko-Honokohau National Historical Park, HI | 45
|  | Pu'uhonua O Honaunau National Historical Park, HI | 45
|  | Puukohola Heiau National Historic Site, HI | 45
|  | U S S Arizona Memorial, HI | 1500
Rambo Helicopter Charter, Inc | Scenic Helicopter Tours | Great Smoky Mountain, National park, TN, NC | 1800
Red Eagle Aviation, Inc |  | Blackfeet Tribal Lands | 159
|  | Glacier National Park, MT | 159
Rite Bros Aviation Inc |  | Mount Rainier National Park, WA | 2
|  | North Cascades National Park, WA | 2
|  | Olympic National Park, WA | 76
Rogers Helicopters Inc | Dam Helicopter Company, Inc., Hall Air Ambulance Service, Inc., ROAM, Rogers Aviation Sky Life | Lake Mead and Parashant National Recreation Area and National Monument, AZ, NV | 9000
Rushmore Helicopters, Inc |  | Mount Rushmore National Memorial, SD | 5200
Safari Aviation, Inc | Safari Helicopter Tours | Hawaii Volcanoes National Park, HI | 3920
Scenic Airlines, Inc |  | Bryce Canyon National Park, UT | 1094
|  | Glen Canyon National Recreation Area, AZ, UT | 3153
|  | Lake Mead and Parashant National Recreation Area and National Monument, AZ, NV | 14707
|  | Monument Valley Navajo Tribal Park, UT, AZ | 1303
|  | Rainbow Bridge National Monument, UT | 1303
|  | Zion National Park, UT | 547
Schuman Aviation Company, Ltd | Makani Kai Helicopters | Haleakala National Park, HI | 25
|  | Hawaii Volcanoes National Park, HI | 25
|  | Kalaupapa National Historical Park, HI | 25
|  | Kaloko-Honokohau National Historical Park, HI | 25
|  | Pu'uhonua O Hoanunau National Historical Park, HI | 25
|  | Puukohola Heiau National Historic Site, HI | 25
|  | U S S Arizona Memorial, HI | 2100
Selway Aviation LLC |  | Glacier National Park, MT | 20
Slickrock Air Guides, Inc |  | Arches National Park, UT | 323
|  | Canyonlands National Park, UT | 323
|  | Glen Canyon National Recreation Area, AZ, UT | 323
|  | Navajo Tribal Lands | 323
Spirit Moutain Aviation LLC |  | Grand Teton National Park, WY | 45
|  | Yellowstone National Park, ID, MT, WY | 45
Steve Winters d/b/a M & S Aero | M & S Aero | Bryce Canyon National Park, UT | 326
|  | Glen Canyon National Recreational Area | 10
|  | Zion National Park, UT | 25
Sundance Helicopters Inc | Helicop Tours, Helicopter Services Sundance Helicopters | Bryce Canyon National Park, UT | 12
|  | Death Valley National Park, CA | 6
|  | Lake Mead and Parashant National Recreational Area and National Monument, AZ, NV | 865
|  | Zion National Park, UT | 12
Sunshine Helicopters, Inc |  | Haleakala National Park, HI | 4853
|  | Hawaii Volcanoes National Park, HI | 2100
|  | Kalaupapa National Historical Park, HI | 1252
Swanstrom, Paul N | Mountain Flying Service | Arches National Pak, UT | 50
|  | Canyonlands National Park, UT | 50
|  | Capitol Reef National Park, UT | 50
|  | Glen Canyon National Recreeation Area, AZ, UT | 50
|  | Natural Bridges National Monument, UT | 50
|  | Navajo Tribal Lands | 50
Van Air, Inc |  | Voyageurs National Park, MN | 60
Ventura Air Services, Inc |  | Statute of Liberty National Monument, NY | 125
Westwind Aviation, Inc | Westwind Air Service | Bryce Canyon National Park, UT | 130
|  | Glen Canyon National Recreation Area, AZ, UT | 4270
|  | Navajo Tribal Lands | 2664
|  | Rainbow Bridge National Monument, UT | 4140
Wilson Aviation, LLC |  | Glacier National Park, UT | 60
Windrock Aviation Inc | Sky Eye Air Tours, Windrock Airlines, Windrock Aviation | Arches National Park, UT | 2
|  | Bryce Canyon National Park, UT | 1
|  | Canyon De Chelly National Monument, AZ | 2
|  | Canyonlands National Park, UT | 1
|  | Cedar Breaks National Monument, UT | 1
|  | Glen Canyon National Recreation Area, AZ, UT | 12
|  | Lake Mead and Parashant National Recreational Area and National Monument, AZ, NV | 5
|  | Montezuma Castle National Monument, AZ | 5
|  | Rainbow Bridge National Monument, UT | 3
|  | Saguaro National Park, AZ | 2
|  | Sunset Crater Volcano National Monument, AZ | 4
|  | Tuzigoot National Monument, AZ | 5
|  | Walnut Canyon National Monument, AZ | 1
|  | Zion National Park, UT | 3
Wings of Wenatchee, Inc |  | Lake Chelan National Recreation Area, WA | 15
|  | Lake Roosevelt National Recreation Area, WA | 12
|  | Mount Rainier National Park, WA | 3
|  | North Cascades National Park, WA | 10

[FR Doc. 05-12380 Filed 6-22-05; 8:45 am]

BILLING CODE 4910-13-M